ENVIRONMENTAL PROTECTION AGENCY

[ER-FRL-8798-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/. An explanation of the ratings assigned to draft environmental impact statements (EISs) was published in FR dated July 17, 2009 (74 FR 34754).

Draft EISs

EIS No. 20090247, ERP No. D-NOA-E91027-00,Comprehensive Ecosystem-Base Amendment 1 (CE-BA1) for the South Atlantic Region, Implementation.

Summary:EPA fully supports protection of deepwater coral habitat and the application of the ecosystem-based approach to fishery management proposed by the Comprehensive Ecosystem-Based Amendment 1. Rating LO.

EIS No. 20090283, ERP No. D-NPS-F65077-WI,Apostle Islands National Lakeshore General Management Plan/Wilderness Management Plan, Implementation, Bayfield and Ashland Counties, WI.

Summary:While EPA has no objections to this project, it did request information on comparing current management zones with zones proposed in the preferred alternative. Rating LO.

EIS No. 20090286, ERP No. D-NPS-E610790FL,Biscayne National Park Fishery Management Plan, Improvement of the Status of Fisheries Resources, Implementation, Miami-Dade County, FL.

Summary:EPA expressed environmental concerns about impacts to the park fishery populations from the effects of increased human population growth, improved fishing technology, and increased recreational bycatch. Rating EC1.

EIS No. 20090307, ERP No. D-UCG-A39141-00,PROGRAMMATIC—Ballast Water Discharge Standard Project, To Implement a Ballast Water Discharge Standard to Prevent or Reduce the Number of Non-indigenous Species introduced into the United States Waters.

Summary:EPA does not object to the proposed action. Rating LO.

Final EISs

EIS No. 20090269, ERP No. F-TVA-E65082-00,Mountain Reservoirs Land Management Plan, Implementation, Proposes to Develop a Plan for Managing Nine Mountain Reservoirs: Chatuge, Hiwassee, Blue Ridge, Nottely, Ocoees 1, 2, and 3, Appalachia, and Fontana Reservoirs, Fannin, Towns, and Union Counties, GA; Cherokee, Clay, Graham, and Swain Counties, North Carolina; and Polk County, TN.

Summary:EPA continues to have environmental concerns about water quality and shoreline integrity impacts.

EIS No. 20090321, ERP No. F-SFW-L64054-AK, Kenai National Wildlife Refuge Draft Revised Comprehensive Conservation Plan, Implementation, AK.

Summary:No formal comment letter was sent to the preparing agency.

Dated: October 20, 2009.
Ken Mittelholtz,
Deputy Director, NEPA Compliance Division, Office of Federal Activities.

[FR Doc. E9-25583 Filed 10-22-09; 8:45 am]

BILLING CODE 6560-50-P